DEPARTMENT OF ENERGY

Federal Energy Regulatory Commission

[Docket Nos. CP06-12-000 and CP06-13-000]

Gulf LNG Energy, LLC and Gulf LNG Pipeline, LLC; Notice of Availability of the Final Environmental Impact Statement for the LNG Clean Energy Project

November 24, 2006.

The staff of the Federal Energy Regulatory Commission (FERC or Commission), in cooperation with the U.S. Coast Guard (Coast Guard), has prepared this final Environmental Impact Statement (EIS) for the construction and operation of the liquefied natural gas (LNG) import terminal and natural gas pipeline facilities, referred to as the LNG Clean Energy Project, as proposed by Gulf LNG Energy, LLC and Gulf LNG Pipeline, LLC (collectively referred to as Gulf LNG) in the above-referenced dockets.

This final EIS was prepared to satisfy the requirements of the National Environmental Policy Act. The staff concludes that approval of the LNG Clean Energy Project, with appropriate mitigating measures as recommended, would have limited adverse environmental impact. The final EIS evaluates alternatives to the proposed action, including the Coast Guard's alternatives to issuing a Letter of Recommendation, system alternatives, alternative sites for the LNG import terminal, and pipeline alternatives. The final EIS also contains our Essential Fish Habitat Assessment.

The final EIS addresses the potential environmental effects of construction and operation of the following facilities near the City of Pascagoula in Jackson County, Mississippi:

• A ship berth and unloading facilities (i.e., marine facilities) capable of accommodating one LNG ship;

• LNG transfer systems;

• Two 160,000 cubic meter full containment LNG storage tanks;

• 10 high-pressure submerged combustion vaporizers;

• Vapor handling systems;

• Hazard detection and response equipment, ancillary utilities, buildings, and service facilities;

• A 5.0-mile-long, 36-inch-diameter natural gas sendout pipeline; and

• Associated pipeline support facilities, including three interconnects/meter stations, one pig launcher, and one pig receiver.

The analysis also includes operation of LNG vessels in the waterway from the territorial seas until moored at the proposed LNG terminal.

The general purpose of the LNG Clean Energy Project is to provide up to 1.5 billion cubic feet per day of natural gas to markets in the United States.

The final EIS has been placed in the public files of the FERC and is available for distribution and public inspection at: Federal Energy Regulatory Commission, Public Reference and Files Maintenance Branch, 888 First Street, NE., Room 2A, Washington, DC 20426, (202) 502-8371.

A limited number of copies of the final EIS are available from the Public Reference and Files Maintenance Branch identified above. In addition, CD copies of the final EIS have been mailed to federal, state, and local agencies; elected officials; public interest groups; individuals and affected landowners; libraries; newspapers; and parties to these proceedings.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet website also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site.

Information about the project is also available from the Coast Guard by contacting Captain James Bjostad, Captain of the Port, Sector Mobile, at (251) 441-5960.

Magalie R. Salas,
Secretary.

[FR Doc. E6-20462 Filed 12-1-06; 8:45 am]

BILLING CODE 6717-01-P